COMMODITY FUTURES TRADING

Sunshine Act Meeting

TIME AND DATE: 11 a.m, Friday, November 26, 2004.

PLACE: 1155 21st St., NW., Washington, DC, 9th Floor Commission Conference Room.

STATUS: Closed.

MATTERS TO BE CONSIDERED: Surveillance Matters.

CONTACT PERSON FOR MORE INFORMATION: Jean A. Webb, 202-418-5100.

Jean A. Webb,
Secretary of the Commission.

[FR Doc. 04-23571 Filed 10-18-04; 11:51 am]

BILLING CODE 6351-01-M